DEPARTMENT OF COMMERCE

National Oceanic and Atmospheric Administration

15 CFR Part 922

Initiation of Review of Management Plan/Regulations of the Hawaiian Islands Humpback Whale National Marine Sanctuary; Intent To Prepare Draft Environmental Impact Statement and Management Plan; Scoping Meetings

AGENCY: Office of National Marine Sanctuaries (ONMS), National Ocean Service (NOS), National Oceanic and Atmospheric Administration (NOAA), Department of Commerce (DOC).

ACTION: Notice of Intent to Initiate Review of Management Plan/Regulations; Intent to Prepare Environmental Impact Statement; Scoping Meetings.

SUMMARY: In accordance with section 304(e) of the National Marine Sanctuaries Act, as amended, (NMSA) (16 U.S.C. 1431 et seq.), the Office of National Marine Sanctuaries (ONMS) of the National Oceanic and Atmospheric Administration (NOAA) has initiated a review of the Hawaiian Islands Humpback Whale National Marine Sanctuary (HIHWNMS or sanctuary) management plan, to evaluate substantive progress toward implementing the goals for the sanctuary, and to make revisions to its management plan and regulations as necessary to fulfill the purposes and policies of the NMSA and the Hawaiian Islands National Marine Sanctuary Act (HINMSA; Title II, Subtitle C, Pub. L. 102-587). The present management plan was written as part of the sanctuary's management plan review process in 2002 and did not contain any regulatory or boundary changes from the implementing regulations that became effective December 29, 1999 (64 FR 63262). NOAA anticipates completion of the revised management plan and concomitant documents will require approximately thirty-six months from the date of publication of this Notice of Intent. The management plan review process occurs concurrently with a public process under the National Environmental Policy Act (NEPA; 42 U.S.C. 4321 et seq.). This notice also confirms that NOAA will coordinate its responsibilities under section 106 of the National Historic Preservation Act (NHPA, 16 U.S.C. 470) with its ongoing NEPA process, pursuant to 36 CFR 800.8(a)—coordination with NEPA—including the use of NEPA documents and public and stakeholder meetings to also meet the section 106 requirements.

DATES: All comments on issues related to the continued management of the Hawaiian Islands Humpback Whale National Marine Sanctuary will be considered if received on or before October 16, 2010. See SUPPLEMENTARY INFORMATION section below for the dates, times, and locations of the public scoping meetings.

ADDRESSES: All written inquiries and comments may be sent to: Management Plan Review Coordinator, Hawaiian Islands Humpback Whale National Marine Sanctuary, 6600 Kalaniana'ole Highway, Suite 301, Honolulu, Hawai'i 96825 or faxed to (808) 397-2650.

Electronic comments may be sent to: hihwmanagementplan@noaa.gov.

All comments received are a part of the public record. All Personal Identifying Information (for example, name, address, etc.) voluntarily submitted by the commenter may be publicly accessible. Do not submit confidential business information or otherwise sensitive or protected information. NOAA will accept anonymous comments. Attachments to electronic comments will be accepted in Microsoft Word, Excel, Wordperfect, or Adobe PDF file formats only.

FOR FURTHER INFORMATION CONTACT: Malia Chow, Policy Advisor, Telephone: (808) 397-2651.

SUPPLEMENTARY INFORMATION:

Background Information

The Hawaiian Islands Humpback Whale National Marine Sanctuary (sanctuary) was designated by Congress in 1992 as the 12th national marine sanctuary in the U.S. Its primary mission is to protect humpback whales (Megaptera novaeangliae) and their habitat in Hawai'i. The sanctuary enables citizens and government to work collectively on safeguarding humpback whale breeding and calving range in waters around the main Hawaiian Islands, an area that supports over half the North Pacific humpback whale population and constitutes one of the world's most important humpback whale habitats. Encompassing 3,548 square kilometers (1,370 square miles) of federal and state waters surrounding the main Hawaiian Islands, the sanctuary extends from the shoreline to the 100-fathom isobath (183-meter or 600 foot depth) and is composed of five separate marine protected areas (MPAs) accessible from six of the eight main Hawaiian Islands. The sanctuary's configuration presents unique challenges and opportunities for protecting sanctuary resources, developing programs, and increasing public awareness of humpback whales throughout the state.

In accordance with Section 304(e) of the National Marine Sanctuaries Act, as amended (NMSA), 16 U.S.C. 1431 et seq., the Office of National Marine Sanctuaries (ONMS) of the National Oceanic and Atmospheric Administration (NOAA) is initiating a review of the current management plan to evaluate the substantive progress made toward implementing the goals for the sanctuary, and to make revisions to the plan and regulations as necessary to fulfill the purposes and policies of the NMSA. The proposed revised management plan may involve changes to existing policies and regulations of the sanctuary, as well as address current and emerging topics, challenges, and opportunities to better protect and manage the sanctuary's resources and qualities. The review process is composed of four primary stages:

(1) Information collection and characterization, including public scoping meetings;

(2) Preparation and release of a revised draft management plan/environmental evaluation that includes any proposed new regulations or amendments to current regulations;

(3) Public review and comment on the draft plan; and

(4) Preparation and release of a final management plan/environmental evaluation that could also include new regulations to fully implement the revised management plan.

NOAA anticipates that the completion of the revised management plan and concomitant documents will require approximately twenty-four to thirty-six months.

NOAA is opening a public comment period to:

1. Solicit public comments and identify issues on the continued management of the Hawaiian Islands Humpback Whale National Marine Sanctuary; and

2. Help determine the scope of issues to be addressed in the preparation of a management plan and an environmental impact statement (EIS) pursuant to the National Environmental Policy Act (NEPA), if warranted; and

3. Conduct a series of statewide scoping meetings across the State of Hawai'i to collect public comment. The intent of the scoping meetings is to gather information and other comments from individuals, organizations, and government agencies on the scope, types, and significance of issues related to the sanctuary's management plan and regulations. These scoping meetings will also help determine the scope of issues to be addressed in the preparation of an EIS pursuant to the NEPA, 43 U.S.C. 4321 et seq., if warranted. The public scoping meeting schedule is presented below.

This notice confirms that NOAA will coordinate its responsibilities under section 106 of the National Historic Preservation Act (NHPA, 16 U.S.C. 470) with its ongoing NEPA process, pursuant to 36 CFR 800.8(a)—coordination with NEPA—including the use of NEPA documents and public and stakeholder meetings to also meet the section 106 requirements. The NHPA specifically applies to any agency undertaking that has an adverse effect on historic properties. Pursuant to 36 CFR 800.16(1)(1), historic properties includes: “any prehistoric or historic district, site, building, structure or object included in, or eligible for inclusion in, the National Register of Historic Places maintained by the Secretary of the Interior. The term includes artifacts, records, and remains that are related to and located within such properties. The term includes properties of traditional religious and cultural importance to an Indian tribe or Native Hawaiian organization and that meet the National Register criteria.”

In coordinating its responsibilities under the NHPA and NEPA, NOAA intends to identify consulting parties; identify historic properties and assess the effects of the undertaking on such properties; initiate formal consultation with the Hawaii State Historic Preservation Officer, the Advisory Council of Historic Preservation, and other consulting parties; involve the public in accordance with NOAA's NEPA procedures, and develop in consultation with identified consulting parties alternatives and proposed measures that might avoid, minimize or mitigate any adverse effects on historic properties and describe them in any Environmental Assessment or Draft Environmental Impact Statement.

Public Scoping Meetings: The public scoping meetings will be held on the following dates and at the following locations beginning at 6 p.m. unless otherwise noted:

1. Hilo, Hawai'I, Tuesday, August 10, Mokupāpapa Discovery Center, 308 Kamehameha Avenue, Suite 109, Hilo, HI 96720.

2. Kailua-Kona, Hawai'I, Wednesday, August 11, Outrigger Keauhou Beach Resort, 78-6740 Ali'i Drive, Kailua-Kona, HI 96740.

3. Honolulu, O'ahu, Thursday, August 12, 5:30 p.m. to 8:30 p.m., Central Union Church, 1660 South Beretania Street, Honolulu, HI 96826.

4. Līhu'e, Kaua'I, Saturday, August 14, 9 a.m. to 12 p.m., Chiefess Kamakahelei Middle School Cafeteria, 4431 Nuhou Street, Līhu'e, HI 96766.

5. Kilauea, Kaua'I, Saturday, August 14, 4 p.m. to 7 p.m., Kaua'i Christian Academy Library, 4000 Kilauea Road, Kilauea, HI 96754.

6. Kīhei, Maui, Monday, August 16, Lokilani Middle School, 1401 Liloa Drive, Kīhei, HI 96753.

7. Lahaina, Maui, Tuesday, August 17, Lahaina Civic Center, 1840 Honoapi'ilani Highway, Lahaina, HI 96761.

8. Kaunakakai, Moloka'I, Wednesday, August 18, Mitchell Pauole Center, 90 Ainoa Street, Kaunakakai, HI 96748.

9. Hale'iwa, O'ahu, Monday, August 23, Sunset Beach Elementary School, 59-360 Kamehameha Highway, Hale'iwa, HI 96712.

10. Lana'i City, Lana'I, Wednesday, August 26, Lana'i High and Elementary School, 555 Fraser Avenue, Lana'i City, HI 96763.

Condition Report

In preparation for management plan review, NOAA has produced a Hawaiian Islands Humpback Whale National Marine Sanctuary 2010 Condition Report. The Condition Report provides a summary of resources, with a specific focus on humpback whales in the sanctuary, pressures on those resources, the current condition and trends, and management responses to the pressures that threaten the integrity of the marine environment. Specifically, the Condition Report includes information on the status and trends of water quality, habitat, living resources and maritime archaeological resources and the human activities that affect them. The report serves as a supporting document for the Management Plan Review Process, to inform constituents of the current status of humpback whales in the sanctuary.

An electronic copy of the final Hawaiian Islands Humpback Whale National Marine Sanctuary 2010 Condition Report is available to the public on the Internet at: http://sanctuaries.noaa.gov/science/condition/welcome.html or it can be accessed from the HIHWNMS Web site at: http://hawaiihumpbackwhale.noaa.gov/.

Scoping Comments

Scoping meetings provide an opportunity to make direct comments to NOAA on the management of the sanctuary's natural and cultural resources, including administrative programs. We encourage the public to participate and welcome any comments related to the sanctuary. In particular, we are interested in hearing about the public's view on the sanctuary's potential management priorities for the next ten to fifteen years. Specifically, the sanctuary is seeking input on a proposal to expand its scope and direction to protect and conserve other living marine resources, in addition to humpback whales and submerged cultural heritage resources within the sanctuary. This proposal is detailed in the State of the Sanctuary Report Special Management Plan Review Edition and is available to the public on the Internet at: http://hawaiihumpbackwhale.noaa.gov/management/management_plan_review.html.

Authority: 16 U.S.C. 1431 et seq; 16 U.S.C. 470.

(Federal Domestic Assistance Catalog Number 11.429 Marine Sanctuary Program)

Dated: July 7, 2010.
Daniel J. Basta,
Director for the Office of National Marine Sanctuaries.

[FR Doc. 2010-17083 Filed 7-13-10; 8:45 am]

BILLING CODE 3510-NK-P